DEPARTMENT OF TRANSPORTATION

[Docket No. DOT-OST-2012-0183]

Proposed Agency Information Collection Activities; Comment Request

AGENCY: Office of the Secretary, DOT.

ACTION: Notice and request for comments; correction.

SUMMARY: In compliance with the Paperwork Reduction Act of 1995 (44 U.S.C. 3501 et seq.), this notice announces that the Information Collection Request (ICR) abstracted below is being forwarded to the Office of Management and Budget (OMB) for review and comments. The Federal Register Notice with a 60-day comment period soliciting comments on the following information collection was published on August 6, 2012 (75 FR 46789). No comments were received.

Correction: The notice in the August 6, 2012 Federal Register [77 FR 46789] requested comments on the Agency's Renewal of a Previously Approved Information Collection: Disclosure of Change-of-Gauge Services. The approval for the Information Collection, abstracted below, expired on August 31, 2012 during the 60-day comment period. Therefore, the Agency is now requesting Reinstatement of a Previously Approved Collection: Disclosure of Change-of-Gauge Services.

DATES: Comments must be submitted on or before December 14, 2012.

ADDRESSES: Send written comments on any or all of the following proposed activities, including the burden estimate and suggestions for reducing the burden, to the Office of Management and Budget, Attention: Desk Officer for the Department of Transportation, Office of the Secretary, 725 17th Street NW., Washington, DC 20503.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

FOR FURTHER INFORMATION CONTACT: Barbara Snoden, Office of the Assistant Secretary for Aviation and International Affairs, Office of the Secretary, U.S. Department of Transportation, 1200 New Jersey Avenue SE., Washington, DC 20590, (202) 366-4834.

SUPPLEMENTARY INFORMATION: OMB Control Number: 2105-0538.

Title: Disclosure of Code Sharing Arrangements and Long-Term Wet Leases.

Type of Review: Reinstatement of a previously approved information collection.

Abstract: Change-of-gauge service is scheduled passenger air transportation for which the operating carrier uses one single flight number even though passengers do not travel in the same aircraft from origin to destination but must change planes at an intermediate stop. In addition to one-flight-to-one-flight change-of-gauge services, change-of-gauge services can also involve aircraft changes between multiple flights on one side of the change point and one single flight on the other side. As with one-for-one change-of-gauge services, the carrier assigns a single flight number for the passenger's entire itinerary even though the passenger changes planes, but in addition, the single flight to or from the exchange point itself has multiple numbers, one for each segment with which it connects and one for the local market in which it operates.

The Department recognizes various public benefits that can flow from change-of-gauge services, such as a lowered likelihood of missed connections. However, although change-of-gauge flights can offer valuable consumer benefits, they can be confusing and misleading unless consumers are given reasonable and timely notice that they will be required to change planes during their journey.

Section 41712 of Title 49 of the U.S. code authorizes the Department to decide if a U.S. air carrier or foreign air carrier or ticket agent (including travel agents) has engaged in unfair or deceptive practices. Under this authority, the Department has adopted various regulations and policies to prevent unfair or deceptive practices or unfair methods of competition. The Department requires as a matter of policy that customers be given notice of aircraft changes for change-of-gauge flights. (See Department Order 89-1-31, page 5.) The Department proposed to adopt the extant regulations, however, because it was not convinced that these rules and policies resulted in effective disclosure all of the time.

Respondents: All U.S. air carriers, foreign air carriers, computer reservations systems (CRSs), and travel agents doing business in the United States, and the traveling public.

Number of Respondents: 16,000, excluding travelers.

Frequency: At 15 seconds per call and an average of 1.5 calls per trip, a total of 22.5 seconds per respondent or traveler, for the approximately 33% of estimated change-of-gauge itineraries that involve personal contact.

Total Annual Burden: Annual reporting burden for this data collection is estimated at 76,313 hours for all travel agents and airline ticket agents, based on 15 seconds per phone call and an average of 1.5 phone calls per trip, for the approximately 33% of estimated change-of-gauge itineraries that involve personal contact. Most of this data collection (third party notification) is accomplished through highly automated computerized systems.

Authority: The Paperwork Reduction Act of 1995; 44 U.S.C. Chapter 35, as amended; and 49 CFR 1:48.

Issued in Washington, DC on November 7, 2012.
Claire Barrett,
Chief Privacy & Information Asset Officer, U.S. Department of Transportation.

[FR Doc. 2012-27618 Filed 11-13-12; 8:45 am]

BILLING CODE 4910-9X-P